DEPARTMENT OF JUSTICE

Notice of Lodging of Consent Decree Under the Comprehensive Environmental Response, Compensation, and Liability Act

Notice is hereby given that on May 23, 2008, a proposed Consent Decree in United States v. Kaman Aerospace Corporation, Civil Action No. 08-00794, was lodged with the United States District Court for the District of Connecticut.

In this action, the United States sought recovery of past and future response costs incurred by the United States Navy in connection with the Naval Weapons Industrial Reserve Plant in Bloomfield, Connecticut (“Facility”). The Consent Decree resolves the potential liability of both the United States, which owned the Facility, and Kaman Aerospace Corporation (“Kaman”), a government contractor that operated the Facility, for all response costs incurred or to be incurred in connection with the Facility. In return for transferring the Facility to Kaman, Kaman will complete the remaining environmental remediation of the Facility. In addition, each party releases the other from liability for all response costs.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Kaman Aerospace Corporation, D.J. Ref. No. 90-11-2-08604.

The Consent Decree may be examined at the Office of the United States Attorney, 915 Lafayette Blvd., Bridgeport, Connecticut. During the public comment period, the Consent Decree also may be examined on the following Department of Justice Web site: http://www.usdoj.gov/enrd/Consent_Decrees.html. A copy of the Consent Decree also may be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $27.75 (25 cents per page reproduction cost) payable to the U.S. Treasury or, if by e-mail or fax, forward a check in that amount to the Consent Decree Library at the stated address.

Ronald Gluck,
Assistant Chief, Environmental Enforcement Section, Environment and Natural Resources Division.

[FR Doc. E8-12630 Filed 6-5-08; 8:45 am]

BILLING CODE 4410-CW-P